DEPARTMENT OF TRANSPORTATION

Federal Railroad Administration

[Docket Number FRA-2013-0064]

Petition for Modification of Single Car Air Brake Test Procedures

In accordance with Part 232 of Title 49 Code of Federal Regulations (CFR), this document provides the public notice that by a document dated June 6, 2013, the Association of American Railroads (AAR) has petitioned the Federal Railroad Administration (FRA) per 49 CFR 232.307 to modify the single car air brake test procedures located in AAR Standard S-486, Code of Air Brake System Tests for Freight Equipment—Single Car Test, and required pursuant to 49 CFR 232.305(a). FRA assigned the petition Docket Number FRA-2013-0064.

The requested revisions editorially change sections for the purposes of clarity and organizational efficiency. The sections, paragraphs, and parts of AAR Standard S-486 that AAR requests to be modified are as follows:

§ 2.1.3: Changed choke diameters of Position 5 and the 3/8-inch cock. Position 5 diameters changed from 0.147″ to 0.136″, reducing the discharge rate to prevent an undesired emergency on cars with short brake pipes. Also, the choke in the 3/8-inch cock valve changed from 0.266″ (17/64″) to 0.313″ (5/16″), increasing the discharge rate to ensure emergency application on cars with long brake pipes.

§§ 2.2.4-2.2.6: Revised for clarification with no technical changes.

§ 2.2.7: Added a reference to use RP-5599 (hook-and-eye) as the adjustment procedure.

§ 2.3: Revised into a step-by-step procedure, no technical changes.

§ 3.1: Moved steps related to safety up in the procedure so they could be performed first. Appendix A was added for troubleshooting. The specific location for the brake cylinder gage was added. A setup instruction for the retaining valve was added.

§ 3.1.1: Clarified and added details regarding operation of the empty/load valve designs.

§ 3.2: Revised for clarification with no technical changes.

§ 3.5.2: Added a requirement to soap all fittings to check for leakage during the system leakage test.

§ 3.6.4: Added more detail to check for slack during hand brake release.

§ 3.7: Added new section to condition slack adjuster at the beginning of the test with blocks (two applications and two releases).

§§ 3.8.1, 3.8.2: Changed from 30 to 40 psi to improve efficiency.

§§ 3.9.4, 3.10.2.2: Added criteria for brake cylinder pressure.

§ 3.11: Added time criteria to ensure brake pipe exhaust.

§ 3.12.5: Added time and pressure criteria.

§ 3.13: Added criteria for brake pipe pressure to set up for next test.

§ 3.14: Reinstated the applied leakage test.

§ 3.16: Added steps for slack adjuster conditioning without blocks.

§ 3.18.1: Added criteria for piston travel +/- 0.5″.

§ 3.20: Changed from 20 to 17 psi.

§ 4.1: Changed from 20 to 30 psi to get past the equalization pressure for consistency.

§ 4.1.2: Added criteria for piston travel +/- 0.5″.

§ 4.2: Changed from 3 to 4 minutes for consistency.

§§ 4.2.1, 4.5, 4.6: Added 12 psi criteria.

§ 4.6.5: Changed from 20 to 17 psi.

§§ 5.3.1, 6.3.1: Changed rotary valve calibration rate from 2 to 1.5 seconds.

§§ 5.3.4, 6.3.4: Added criteria of 0.5 seconds to rate.

§ 7.3: Revised calibration procedure per request of FRA.

These technical revisions are also highlighted in the PDF file of the revised standard, which FRA has included in the docket to this proceeding.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue, SE., Room W12-140, Washington, DC 20590, between 9 a.m. and 5 p.m., Monday through Friday, except Federal Holidays.

Communications received by September 23, 2013 will be considered by FRA before final action is taken. Comments received after that date will be considered as far as practicable. Pursuant to 49 CFR 232.307(d), if no comment objecting to the requested modification is received by September 23, 2013, or if FRA does not issue a written objection to the requested modification, the modification will become effective by October 7, 2013.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-17614 Filed 7-22-13; 8:45 am]

BILLING CODE 4910-06-P